DEPARTMENT OF EDUCATION

Withdrawal of Notices Inviting Applications (NIA) and Cancellation of the Competitions for the Strengthening Alaska Native and Native Hawaiian-Serving Institutions Part A (ANNH Part A), Strengthening Asian American and Native American Pacific Islander-Serving Institutions Part A (AANAPISI Part A), Strengthening Native American-Serving Nontribal Institutions Part A (NASNTI Part A) and Developing Hispanic-Serving Institutions programs (DHSI)

AGENCY: Office of Postsecondary Education, Department of Education.

ACTION: Notice; cancellation.

SUMMARY: The Department of Education (Department) withdraws the NIAs for fiscal year (FY) 2025 for new awards under the ANNH Part A, AANAPISI Part A, NASNTI Part A, and DHSI programs.

DATES: The Notices Inviting Applications published in the Federal Register on June 3, 2025 (90 FR 23520) and July 14, 2025 (90 FR 31190, 90 FR 31181, and 90 FR 31176) are withdrawn and the competitions cancelled as of September 18, 2025.

FOR FURTHER INFORMATION CONTACT: Victor Shirley, U.S. Department of Education, 400 Maryland Avenue SW, Washington, DC 20202. Telephone: (202) 987-1554. Email: OPEGrants@ed.gov.

If you are deaf, hard of hearing, or have a speech disability and wish to access telecommunications relay services, please dial 7-1-1.

SUPPLEMENTARY INFORMATION: On June 3 and July 14, 2025, the Department published NIAs for each of the aforementioned programs in the Federal Register. The Department is withdrawing these NIAs following the U.S. Solicitor General's July 2025 determination that the Hispanic-Serving Institutions (HSI) programs violate the equal protection component of the Fifth Amendment's Due Process Clause. As a result, the Department of Justice has declined to defend the programs in ongoing litigation.

The Department agrees that the racial quotas in the HSI programs are unconstitutional and, consequently, has decided to cancel the DHSI competition. In addition, due to similar issues with all MSI programs, including ANNH Part A, AANAPISI Part A, and NASNTI Part A, the Department is also canceling these competitions.

Intergovernmental Review: This program is subject to Executive Order 12372 and the regulations in 34 CFR part 79.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Signing Authority

This document of the U.S. Department of Education was signed on September 15, 2025, by Christopher J. McCaghren, ED.D., Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of Executive Secretariat, Office of the Secretary, U.S. Department of Education.

[FR Doc. 2025-18019 Filed 9-17-25; 8:45 am]

BILLING CODE 4000-01-P